DEPARTMENT OF AGRICULTURE

Animal and Plant Health Inspection Service

[Docket No. APHIS-2014-0100]

Notice of Availability of Proposed Changes to the National Poultry Improvement Plan Program Standards

AGENCY: Animal and Plant Health Inspection Service, USDA.

ACTION: Notice of availability.

SUMMARY: We are advising the public that proposed changes to the National Poultry Improvement Plan Program Standards are available for review and comment.

DATES: We will consider all comments that we receive on or before March 9, 2015.

ADDRESSES: You may submit comments by either of the following methods:

• Federal eRulemaking Portal: Go to http://www.regulations.gov/#!docketDetail;D=APHIS-2014-0100.

• Postal Mail/Commercial Delivery: Send your comment to Docket No. APHIS-2014-0100, Regulatory Analysis and Development, PPD, APHIS, Station 3A-03.8, 4700 River Road Unit 118, Riverdale, MD 20737-1238.

The proposed standards and any comments we receive may be viewed at http://www.regulations.gov/#!docketDetail;D=APHIS-2014-0100 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Denise Brinson, DVM, Director, National Poultry Improvement Plan, VS, APHIS, USDA, 1506 Klondike Road, Suite 101, Conyers, GA 30094-5104; (770) 922-3496.

SUPPLEMENTARY INFORMATION: The National Poultry Improvement Plan (NPIP, also referred to below as “the Plan”) is a cooperative Federal-State-Industry mechanism for controlling certain poultry diseases. The Plan consists of a variety of programs intended to prevent and control poultry diseases. Participation in all Plan programs is voluntary, but breeding flocks, hatcheries, and dealers must first qualify as “U.S. Pullorum-Typhoid Clean” as a condition for participating in the other Plan programs.

The Plan identifies States, flocks, hatcheries, dealers, and slaughter plants that meet certain disease control standards specified in the Plan's various programs. As a result, customers can buy poultry that has tested clean of certain diseases or that has been produced under disease-prevention conditions.

The regulations in 9 CFR parts 145, 146, and 147 (referred to below as the regulations) contain the provisions of the Plan. The Animal and Plant Health Inspection Service (APHIS, also referred to as “the Service”) of the U.S. Department of Agriculture (USDA, also referred to as “the Department”) amends these provisions from time to time to incorporate new scientific information and technologies within the Plan.

In the past, APHIS has updated the regulations once every 2 years, following the Biennial Plan Conference. However, with the continual changes in diagnostic science and testing technology and in best practices for maintaining sanitation, the biennial update schedule has occasionally resulted in the regulations becoming out of date between updates. In some instances, tests have also been difficult to render properly in the regulations due to the need to describe flow charts or diagrams in a narrative format.

On July 9, 2014, we published in the Federal Register (79 FR 38752-38768, Docket No. APHIS-2011-0101) a final rule ¹ that, among other things, amended the regulations by removing tests and detailed testing procedures, as well as sanitation procedures, from part 147, and making these available in an NPIP Program Standards document.² The rule also amended the regulations to provide for the Program Standards document to be updated through the issuance of a notice in the Federal Register followed by a period of public comment. This action was intended to make the NPIP program more effective by streamlining the provisions of the Plan, keeping those provisions current with changes in the poultry industry, and providing for the use of new approved sampling and testing procedures without the need for rulemaking.

¹ To view the final rule and related documents, go to http://www.regulations.gov/#!docketDetail;D=APHIS-2011-0101.

² This document may be viewed on the NPIP Web site at http://www.poultryimprovement.org/documents/ProgramStandardsAugust2014.pdf, or by writing to the Service at National Poultry Improvement Plan, APHIS, USDA, 1506 Klondike Road, Suite 101, Conyers, GA 30094.

We are advising the public that we have prepared updates to the NPIP Program Standards document. The proposed updates include changes to blood testing procedures for mycoplasma, bacteriological examination procedure changes for Salmonella, and the addition of new approved diagnostic test kits. After reviewing any comments we receive on the proposed updates, we will publish a second notice in the Federal Register announcing our decision regarding the proposed changes.

Authority: 7 U.S.C. 8301-8317; 7 CFR 2.22, 2.80, and 371.4.

Done in Washington, DC, this 2nd day of February 2015.
Kevin Shea,
Administrator, Animal and Plant Health Inspection Service.

[FR Doc. 2015-02406 Filed 2-5-15; 8:45 am]

BILLING CODE 3410-34-P